DEPARTMENT OF DEFENSE

Office of the Secretary

FY 2010 Grant Competition Announcement; Promoting Student Achievement at Schools Impacted by Military Force Structure Changes

AGENCY: Department of Defense Education Activity (DoDEA).

ACTION: Grant competition announcement.

SUMMARY: The Department of Defense Education Activity (DoDEA) announces and requests concept papers for the FY 2010 Promoting Student Achievement at Schools Impacted by Military Force Structure Changes grant competition. Approximately $20 million is expected to be awarded, depending on availability of funding. The period of performance is expected to be 40 months (01 Jun 10-30 Sep 13). Awards will be based on military student enrollment and will range in size from $100,000 to $2,500,000, depending on the number of military students at the target schools. The Department's aim is to enhance the education of military students, but funds may be used to raise student achievement for all students at the target school(s).

SUPPLEMENTARY INFORMATION: Project activities will occur at military-connected schools that serve installations which have been and are experiencing significant military growth due to force structure changes. Projects will enhance student learning opportunities, student achievement, and/or educator professional development in one of the following areas: ELA/R (English language arts/reading) or STEM (science, technology, engineering, and/or mathematics).

Local educational agencies (LEAs) may only apply to receive funds for their elementary school(s) with a military student population of at least 25 percent and for their secondary school(s) with a military student population of at least 15 percent. LEAs self-certify the numbers and percentages of students.

Concept papers will be disseminated to eligible LEAs by e-mail on or about December 1, 2009. They will be due on or about January 27, 2010. The concept papers will be reviewed in February, 2010. Full proposals will be disseminated to selected LEAs on or about March 1, 2010 and will be due on April 22, 2010. Awards are expected to be made June 1-15, 2010. The Department may take into account geographic distribution and military service representation when making grant awards.

Authorization:

• Section 574(d) of Public Law 109-364, as amended by Section 553 of Public Law 110-417; title 10 U.S.C. 2192(b) and 2193a.

CFDA Number

• CFDA 12.556: Support for K-12 Student Achievement at Military-Connected Schools.

K-12 Education

The Department of Defense considers the education of the dependents of members of the Armed Forces to be a critical quality of life issue. K-12 education concerns are often cited as a key reason for requesting changes in assignment and for deciding not to reenlist.

Eligibility

Eligibility is determined through a two-tier process. The first tier, selection of installations, was determined by the Military Services and DoDEA using data provided by the Military Services as of October 2009. Installations had to have growth of 400 or more military students over the 2009-10 and 2010-11 school years in order to qualify. If an installation qualified, the Military Services listed the LEAs that served it. See attached list. LEAs were not involved in the determination of installation growth. LEAs that were listed must meet the requirements of the second tier of eligibility in order to submit a concept paper/full application.

The second tier of eligibility is based on the size and percentage of the military student population measured at the school, not the district, level and on whether or not schools have already received DoDEA funds.

• Percentage: LEAs may only apply to receive funds for elementary school(s) with a military student population of at least 25 percent and secondary school(s) with a military student population of at least 15 percent. LEAs self-certify the numbers and percentages.

• Size: LEAs with 4,500 or more total (military and non-military) students or 450 or more military students must target either their eligible elementary schools or their eligible secondary schools. LEAs with fewer than 4,500 total (military and non-military) students and fewer than 450 military students may target their eligible elementary and/or eligible secondary schools.

• Definition: Military student is defined as an elementary or secondary school student who is a dependent of a member of the Armed Forces or a civilian employee of the Department of Defense who is employed on Federal property. LEAs usually use Impact Aid data to determine their military student population.

• Current Awardees: Current awardees of DoDEA grant funds are eligible to apply for FY10 funds if they meet the aforementioned criteria and if they apply for schools that have not already been targeted/listed in their grant awards.

Eligibility Appeals

DoDEA will not entertain petitions from LEAs. If such a request is made, it will be referred to the appropriate Military Service.

DoDEA Point-of-Contact

• Mr. Brian Pritchard, Contracts and Grants Liaison, DoDEA e-mail: brian.pritchard@hq.dodea.edu, telephone: 703-588-3345.

Application Process

The two-step application process consists of a concept paper and full application. Each concept paper will be scored by a team of reviewers. Only LEAs with the highest scoring concept papers will be invited to submit full applications.

Only an eligible LEA may submit a concept paper. Each concept paper must target one or more schools that meet the eligibility requirements listed above. Although the Department's aim is to enhance the education of military students, project funds may be used to raise student achievement for all students in the target school(s).

Application Focus Areas

DoDEA seeks proposals that use research-based practices to enhance student learning opportunities, student achievement, and/or educator professional development. Proposals must focus on one of the following subject areas: ELA/R (English language arts/reading) or STEM (science technology, engineering, and/or mathematics). Student achievement in the focus area must include measurements of performance on state norm- and/or criterion-referenced assessments.

Evaluation

Proposals must have a strong evaluation plan with data disaggregated at the school level for the military student population.

Anticipated Awards

It is anticipated grants will be funded at the rate of $1,250 per military student (for the entire grant period) with a minimum award of $100,000 and a maximum award of $2,500,000. It is anticipated that LEAs will receive official award documentation between June 1-15, 2010.

Funding Restrictions

A maximum of 25 percent of grant funds may be used for the employment of full-time equivalent (FTE) staff. No grants funds may be allocated for administrative or indirect costs. Awards are expected to take the form of grants to each selected LEA.

Proposal Evaluation and Selection

Concept papers, limited to six pages in length, will consist of an overview of the district, needs assessment, project goals, project plan, evaluation concept, personnel, and budget.

Full proposals will consist of two abstracts (50 and 200 words), 15-page narrative (consisting of a needs assessment, research basis, project goals, personnel, implementation plan, evaluation plan, sustainability, and budget narrative), budget, bibliography, up to three resumes, and up to two letters of support.

Both the concept papers and full applications will be evaluated by a team of professionals. Approximately one month after the submission of the concept papers, DoDEA will inform districts whether or not they have been invited to submit a full application.

Competitive Preference Priorities With Points

Five additional points may be awarded to LEAs that have low student achievement as shown by standardized tests and related measures.

Federal Forms

For the full application only, school districts will have to complete Standard Form 424, 424-A, 424-B, and Certification regarding Lobbying. A full application is defined as having all applicable data correctly completed to include the CAGE number. If an LEA does not have a CAGE number, it must be obtained prior to submission of the full application via http://www.ccr.gov.

Expected Dates and Procedures

Application E-mailed to LEAs (listed below): 01 Dec 10.

Deadline for submission of concept papers: 27 Jan 10, 5 p.m. (EST).

Deadline for submission of full proposals: 22 Apr 10, 5 p.m. (EST).

Submission

Concept papers and full applications must be submitted directly to DoDEA. Detailed submission procedures will be presented in the concept paper and full applications.

Proposal Compliance

Failure to adhere to deadlines to be specified in the forthcoming application may result in proposal rejection. Any proposal received after the exact time and date specified for receipt will not be considered. DoDEA, at its sole discretion, may accept a late proposal if it determines that no competitive advantage has been conferred and that the integrity of the competitive grants process will not be compromised.

Local Educational Agencies (LEAs)* Associated With Military Installations Experiencing Significant Military Student Growth During the 2009-10 and 2010-11 School Years

Aberdeen Proving Ground, MD (2)

Cecil County Public Schools (PS), Harford County PS.

* The nine LEAs associated with Fort Sam Houston and Brooks City AFB are listed twice.

Andrews AFB, MD (1)

Prince Georges County PS.

Brooks City AFB, TX (15)

Alamo Heights Independent School District (ISD), East Central ISD, Edgewood ISD, Fort Sam Houston ISD, Harlandale ISD, Judson ISD, Lackland ISD, North East ISD, Northside ISD, Randolph Field ISD, San Antonio ISD, Somerset ISD, South San Antonio ISD, Southside ISD, Southwest ISD.

Cannon AFB, NM (1)

Clovis Municipal Schools.

Detroit Arsenal, MI (7)

Anchor Bay School District (SD), Centerline SD, L'Anse Cruese SD, Mount Clemons Community SD, Oak Park SD, Pontiac SD, Warren Woods PS.

Eglin AFB, FL (4)

Okaloosa PS, Santa Rosa PS, Walton PS, Escambia County SD.

Fort Belvoir, VA (3)

Fairfax County PS, Prince William County PS, Stafford County PS.

Fort Benning, GA (6)

Chattahoochee County Schools, Harris County PS, Lee County PS, Muscogee County SD, Phenix City PS, Russell County SD.

Fort Bliss, TX (9)

Anthony SD, Canutillo SD, Clint SD, El Paso ISD, Fabens SD, San Elizario SD, Socorro SD, Tornillo SD, Ysleta SD.

Fort Bragg, NC (5)

Cumberland County Schools, Harnett County Schools, Hoke County Schools, Lee County Schools, Moore County Schools.

Fort Carson, CO (21)

Calhan SD RJ-1, Canon City Fremont SD RE-1, Cheyenne Mountain SD 12, Douglas County SD RE-1, Edison SD JT-54, Elbert SD D-200, Elizabeth School District C-1, Ellicott SD D-22, Fountain-Fort Carson SD 8, Fremont RE-2, Hanover SD 28, Harrison SD 2, Kiowa SD RE-1, Lewis Palmer SD RE-1, Manitou Springs SD 14, Miami-Yoder SD JT-60, Peyton SD JT-23, Pueblo County SD 60, Pueblo County SD 70, Widefield SD 3, Woodland Park SD RE-2.

Fort Dix, NJ (1)

Pemberton Township SD.

Fort Knox, TN (8)

Breckinridge County Schools, Bullitt County Schools, Elizabethtown ISD, Grayson County Schools, Hardin County Schools, LaRue County Schools, Meade County Schools, Nelson County Schools.

Fort Lee, VA (6)

Chesterfield County Schools, Colonial Heights PS, Dinwiddie County Schools, Hopewell City PS, Petersburg City PS, Prince George County PS.

Fort Lewis, WA (20)

Auburn SD, Bethel SD, Clover Park SD, Dieringer SD, Eatonville SD, Federal Way SD, Fife SD, Franklin Pierce SD, North Thurston SD, Olympia SD, Peninsula SD, Puyallup SD, Rainer SD, Steilacoom Historical SD, Sumner SD, Tacoma SD, Tenino SD, Tumwater SD, University Place SD, Yelm Community Schools.

Fort Meade, MD (1)

Anne Arundel County PS.

Fort Riley, KS (17)

Abilene Unified School District (USD) 435, Blue Valley-Randolph USD 384, Centre USD 397, Chapman USD 473, Clay County USD 379, Geary County USD 475, Herrington USD 487, Manhattan-Ogden USD 383, Mill Creek USD 329, Morris County USD 417, Riley County USD 378, Rock Creek USD 323, Rural Vista USD 481, Salina USD 305, Solomon USD 393, Topeka USD 501, Wamego USD 320.

Fort Sam Houston, TX (10)

Alamo Heights ISD, East Central ISD, Edgewood ISD, Fort Sam Houston ISD, Harlandale ISD, Judson ISD, North East ISD, Northside ISD, Schertz-Cibolo-Universal City ISD, Southwest ISD.

Fort Stewart, GA (2)

Chatham County Schools, Liberty County Schools.

Hill AFB, UT (3)

Davis SD, Ogden City SD, Weber SD.

Maxwell-Gunter AFB, AL (3)

Montgomery PS, Autauga County SD, Elmore County Public School System.

MCB Camp Lejeune, NC (7)

Carteret County Schools, Craven County Schools, Duplin County Schools, Jones County Schools, Onslow County Schools, Pamlico County Schools, Pender County Schools.

NAS Jacksonville, FL (7)

Atlantic Beach Schools, Clay County Schools, Duval County Schools, Jacksonville Beach Schools, Middleburg Central SD, Neptune Beach Elementary SD, Orange Park SD.

NS San Diego, CA (25)

Cajon Valley Union Elementary SD, Chula Vista Elementary SD, Coronado USD, Del Mar Union Elementary SD, Del Mar Union SD, Escondido Union Elementary SD, Escondido Union High SD, Grossmont Union High SD, La Mesa-Spring Valley SD, Lakeside Union SD, Lemon Grove Elementary SD, National Elementary SD, Poway USD, Rancho Santa Fe SD, San Diego USD, San Dieguito Union High, San Dieguito Union SD, Santee Elementary SD, Santee SD, South Bay Union Elementary SD, South Bay Union SD, Sweetwater Union High SD, Sweetwater Union SD, Valley Center-Pauma USD, Warner USD.

Presidio of Monterey, CA (3)

Carmel USD, Monterey Peninsula USD, Pacific Grove USD.

Redstone Arsenal, AL (3)

Huntsville City Schools, Madison City Schools, Madison County Schools.

Wright-Patterson AFB, OH (25)

Beavercreek City PS, Bethel PS, Brookville PS, Centerville City PS, Dayton City PS, Fairborn City PS, Greenon Local Schools, Huber Heights City PS, Kettering City PS, Mad River Local PS, Miamisburg City PS, Northmont City PS, Northridge Local PS, Oakwood City PS, Springboro Community City PS, Springfield City PS, Sugarcreek Local PS, Tecumseh Local SD, Tipp City Exempted Village Schools, Trotwood-Madison City Schools, Troy PS, Valley View PS, Vandalia-Butler PS, Xenia Community City PS, Yellow Springs Schools.

Dated: November 19, 2009.
Mitchell S. Bryman,
Alternate OSD Federal Register Liaison Officer, Department of Defense.

[FR Doc. E9-28124 Filed 11-23-09; 8:45 am]

BILLING CODE 5001-06-P